DEPARTMENT OF JUSTICE

Agency Information Collection Activities; Proposed Collection Comments Requested; New Data Collection: Office for Victims of Crime (OVC) Tribal Financial Management Center (TFMC) Needs Assessment and Evaluation OMB Package

AGENCY: Office for Victims of Crime, Department of Justice.

ACTION: 30-Day notice.

SUMMARY: The Department of Justice, Office of Justice Programs, Office for Victims of Crime will submit the following information collection request to the Office of Management and Budget (OMB) for review and approval in accordance with the Paperwork Reduction Act of 1995. The proposed information collection is published to obtain comments from the public and affected agencies.

DATES: The purpose of this notice is to allow for an additional 30 days for public comment until September 21, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: This process is conducted in accordance with 5 CFR 1320.10. Written comments and suggestions from the public and affected agencies concerning the proposed collection of information are encouraged. Your comments should address one or more of the following four points:

Evaluate whether the proposed collection of information is necessary for the proper performance of the functions of the agency, including whether the information will have practical utility;

Evaluate the accuracy of the agency's estimate of the burden of the proposed collection of information, including the validity of the methodology and assumptions used;

Evaluate whether and if so, how the quality, utility, and clarity of the information to be collected can be enhanced; and

Minimize the burden of the collection of information on those who are to respond, including through the use of appropriate automated, electronic, mechanical, or other technological collection techniques or other forms of information technology, e.g., permitting electronic submission of responses.

Overview of this information collection:

1. Type of information collection: New Data Collection.

2. The title of the form/collection: OVC TFMC Needs Assessment and Evaluation Package.

3. The agency form number: N/A. Office for Victims of Crime, Office of Justice Programs, Department of Justice.

4. Affected public who will be asked or required to respond, as well as a brief abstract: Primary Respondents: Tribal agencies/entities. Other Possible Respondents: State, Local, and Federal Government; Not-for-profit institutions; other Businesses.

Abstract: OVC TFMC Needs Assessment and Evaluation Package is designed to collect the data necessary to address two objectives. First, to provide information about the capacity of American Indian and Alaska Native (AI/AN) communities to manage the financial aspects of federal awards. This information will help OVC TFMC tailor its resources to support AI/AN communities as they develop and maintain the capacity to successfully manage the financial aspects of their federal awards. Second, this data will allow for the continuous assessment of the satisfaction and outcomes of assistance provided through OVC TFMC for both monitoring and accountability purposes. OVC TFMC will give these forms to recipients of training and technical assistance, users of the website and the virtual support center, tribal advisory council, and other professionals assisting with, or receiving assistance from, OVC TFMC.

5. An estimate of the total number of respondents and the amount of time estimated for an average respondent to respond: There are an estimated 9,750 respondents who will require an average of 13 minutes to complete the needs assessment or evaluation forms (ranging from 1 to 60 minutes across evaluation forms, interview guides, and needs assessment surveys).

6. An estimate of the total public burden (in hours) associated with the collection: The total public burden hours for this information collection are estimated to be 3,063 hours (1,021 hours annually).

If additional information is required contact: Melody Braswell, Department Clearance Officer, United States Department of Justice, Justice Management Division, Policy and Planning Staff, Two Constitution Square, 145 N Street NE, 3E.405A, Washington, DC 20530.

Dated: August 17, 2020.
Melody Braswell,
Department Clearance Officer for PRA, U.S. Department of Justice.

[FR Doc. 2020-18295 Filed 8-19-20; 8:45 am]

BILLING CODE 4410-14-P